FEDERAL MARITIME COMMISSION

Ocean Transportation Intermediary License Revocations and Terminations

The Commission gives notice that the following Ocean Transportation Intermediary licenses have been revoked or terminated for the reason shown pursuant to section 19 of the Shipping Act of 1984 (46 U.S.C. 40101) effective on the date shown.

License No.: 1446F.

Name: Campbell, William H. dba William H. Campbell Co.

Address: 911 Western Avenue, Suite 560, Seattle, WA 98104.

Date Revoked: September 4, 2013.

Reason: Voluntary Surrender of License.

License No.: 16394N.

Name: First Express (Los Angeles), Inc.

Address: 5353 West Imperial Highway, Suite 900, Los Angeles, CA 90045.

Date Revoked: August 14, 2013.

Reason: Failed to maintain a valid bond.

License No.: 019060N.

Name: Skelton Sherborne Inc.

Address: 1225 North Loop West, Suite 432, Houston, TX 77008.

Date Revoked: September 9, 2013.

Reason: Voluntary Surrender of License.

License No.: 023246F.

Name: Acceleron Trade Services, Ltd. Co.

Address: 11250 West Road, Bldg. I-1, Houston, TX 77065.

Date Revoked: September 11, 2013.

Reason: Voluntary Surrender of License.

License No.: 023909N.

Name: E and N International Transport LLC.

Address: 4574 Swilcan Bridge Lane North, Jacksonville, FL 32224.

Date Revoked: August 14, 2013.

Reason: Failed to maintain a valid bond.

James A. Nussbaumer,
Deputy Director, Bureau of Certification and Licensing.

[FR Doc. 2013-25789 Filed 10-29-13; 8:45 am]

BILLING CODE 6730-01-P